DEPARTMENT OF TRANSPORTATION

Federal Transit Administration

[Docket No: FTA-2007-0012]

National Transit Database: Strike Adjustments for Urbanized Area Apportionments

AGENCY: Federal Transit Administration (FTA), DOT.

ACTION: Final Strike Adjustment Policy for Urbanized Area Apportionments.

SUMMARY: This notice announces the Federal Transit Administration's (FTA) National Transit Database (NTD) policy on strike adjustments. On March 12, 2007, FTA provided notice to NTD reporters that it was changing its policy on strikes, to permit transit agencies to request an adjustment to their NTD data that are used in the apportionment of Urbanized Area Formula Grants to offset the effect of strikes, retroactive to the 2005 Report Year. This policy was also announced in the Federal Register Notice of the Urbanized Area Formula Apportionments for Fiscal Year 2007, which was published on March 23, 2007. FTA then formally invited the public to comment on this policy change through a notice published in the Federal Register on November 21, 2007. FTA received one comment on this policy change, and is now formally adopting the new policy.

DATES: Effective Date: February 6, 2008.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Congress established the NTD to “help meet the needs of * * * the public for information on which to base public transportation service planning * * *” (49 U.S.C 5335). Currently, over 650 transit agencies in urbanized areas report to the NTD through an Internet-based reporting system. Each year, performance data from these submissions are used to apportion over $4 billion of FTA funds under the Urbanized Area Formula Grants Program. These data are also used in the annual National Transit Summaries and Trends report, the biennial Conditions and Performance Report to Congress, and in meeting FTA's obligations under the Government Performance and Results Act.

For many years, it was FTA's policy to not adjust performance data submitted to the NTD to offset the effect of strikes. On March 12, 2007, FTA provided notice to NTD reporters that it was changing its policy on strikes, to permit transit agencies to request an adjustment to their NTD data that are used in the apportionment of Urbanized Area Formula Grants to offset the effect of strikes, retroactive to the 2005 Report Year. This policy was also announced in the Federal Register Notice of the Urbanized Area Formula Apportionments for Fiscal Year 2007, which was published on March 23, 2007. FTA invited the public to comment on this policy change through a notice published in the Federal Register on November 21, 2007.

FTA proposes to allow urbanized area transit agencies to request that their NTD data submissions be adjusted to offset the effects of strikes for purposes of the apportionment of Urbanized Area Formula Program Grants. Requesting transit agencies must provide FTA with documentation for the duration of the strike. FTA will then use the transit agency's NTD submissions to project performance data for the time period in question. These projections would then be added to the transit agency's NTD submission in the data sets used by FTA for the calculation of the apportionments of Urbanized Area Formula Program Grants (Section 5307 and Section 5309 Grants). In all publicly-available data sets and data products, an agency's NTD data would remain unadjusted and would reflect the actual NTD submission for the agency.

FTA proposes this policy change because the Section 5307 and Section 5309 Grant Programs are fundamentally designed to support the capital needs of transit agencies in urbanized areas. As such, various performance data are used to approximate the relative capital needs of the various urbanized areas. These capital needs are unaffected by strikes, even though strikes may produce a substantial decrease in the performance data for an urbanized area.

Further, FTA proposes to make this policy retroactive to the FY 2005 Report Year, to allow urbanized areas that were negatively impacted by strikes in the 2005 and 2006 Report Years in the formula apportionment to avail themselves of this new policy.

II. Comments and FTA Response to Comments

FTA received one comment on this proposed policy change, inquiring as to how retroactive strike adjustments will be handled.

FTA Responds: FTA has made its new strike adjustment policy retroactive to the FY 2005 Report Year. Transit agencies that experienced a reduction in service reported to the NTD due to a strike in FY 2005, FY 2006, or FY 2007 may request an offsetting adjustment in their service data for purposes of the FY 2009 Urbanized Area Formula Apportionment by May 1, 2008. (Service data for FY 2007 will be adjusted in these cases.) Transit agencies experiencing a strike-related service reduction in subsequent years must submit their request for an adjustment along with their original NTD submission.

Issued in Washington, DC, this 1st day of February 2008.
James S. Simpson,
Administrator.

[FR Doc. E8-2162 Filed 2-5-08; 8:45 am]

BILLING CODE 4910-57-P